DEPARTMENT OF THE INTERIOR

Bureau of Land Management

[OR-110-6320-AA; HAG01-0071]

Prohibition of Certain Activities on the Medford District in and Around the Woodrat Mountain hang Gliding Site, Jackson County, Oregon

AGENCY: Bureau of Land Management, Department of the Interior.

ACTION: Prohibition on Certain Activities on Public Lands in Jackson County, Oregon.

SUMMARY: Hang gliding is temporarily prohibited on the Medford District, Jackson County, Oregon, from January 4, 2001 to November 1, 2001, during periods of helicopter logging, or upon cancellation of this notice. This prohibition is being made in the interest of public safety while the Poor Bishop timber sale is taking place in the Woodrat Mountain area.

The following public lands are affected: T. 38 S., R. 3 W, Sections 23, 25, 26; Williamette Meridian, Jackson County, Oregon.

FOR FURTHER INFORMATION CONTACT: Steven Armitage, Forest Manager, at (541) 618-2333.

Authority: 43 CFR 8364.

Penalty: Any person failing to comply with this prohibition may be subject to imprisonment for not more than 12 months, or a fine in accordance with the applicable provisions of 18 U.S.C. 3571, or both.

Dated: January 4, 2001.
Rich Drehobl,
Field Office manager, Ashland Field Office.

[FR Doc. 01-1729 Filed 1-19-01; 8:45 am]

BILLING CODE 4310-33-M